DEPARTMENT OF THE INTERIOR

Bureau of Land Management

[OR 120 5882 CC99; HAG 05-0140]

Notice of Public Meeting, Coos Bay Resource Advisory Committee Meeting

AGENCY: Bureau of Land Management, U.S. Department of the Interior.

ACTION: Notice of Bureau of Land Management Coos Bay District Resource Advisory Committee Meeting as identified in Section 205 (f) (2) of the Secure Rural Schools and Community Self-Determination Act of 2000, Public Law 106-393.

SUMMARY: The Bureau of Land Management Coos Bay District Resource Advisory Committee is scheduled to meet on June 28, 2005, from 9 a.m. until 12 p.m. at the Bureau of Land Management Coos Bay District Office. The Bureau of Land Management Office is located at 1300 Airport Lane in North Bend, Oregon. The purpose of this meeting will be for the orientation of the newly appointed Coos Bay District Resource Advisory Committee, the election of a Chair person, and designation of first and second alternates. There will be an opportunity for the public to address the Coos Bay District Resource Advisory Committee at approximately 10 a.m.

FOR FURTHER INFORMATION CONTACT: Sue Richardson, Bureau of Land Management Coos Bay District Manager, at (541) 756-0100 or Glenn Harkleroad, District Restoration Coordinator, at (541) 751-4361, or glenn_harkleroad@or.blm.gov. The mailing address for the Bureau of Land Management Coos Bay District Office is 1300 Airport Lane, North Bend, Oregon 97459.

Dated: May 31, 2005.
Sue E. Richardson,
Coos Bay District Manager.

[FR Doc. 05-11366 Filed 6-7-05; 8:45 am]

BILLING CODE 4310-33-P